DEPARTMENT OF ENERGY

Federal Energy Regulatory Commission

Combined Notice of Filings #1

Take notice that the Commission received the following electric corporate filings:

Docket Numbers: EC25-143-000.

Applicants: Idaho Power Company, Great Basin Transmission, LLC.

Description: Joint Application for Authorization Under Section 203 of the Federal Power Act of Idaho Power Company, et al.

Filed Date: 9/5/25.

Accession Number: 20250905-5172.

Comment Date: 5 p.m. ET 9/26/25.

Take notice that the Commission received the following exempt wholesale generator filings:

Docket Numbers: EG25-519-000.

Applicants: Three W Solar LLC.

Description: Three W Solar LLC submits Notice of Self-Certification of Exempt Wholesale Generator Status.

Filed Date: 9/4/25.

Accession Number: 20250904-5170.

Comment Date: 5 p.m. ET 9/25/25.

Take notice that the Commission received the following electric rate filings:

Docket Numbers: ER25-2837-001.

Applicants: Northern States Power Company, a Minnesota corporation.

Description: Tariff Amendment: 2025-09-09 CapX—Fargo 4—LRTP—CMA—727—Deferral to be effective 12/31/9998.

Filed Date: 9/9/25.

Accession Number: 20250909-5063.

Comment Date: 5 p.m. ET 9/30/25.

Docket Numbers: ER25-2838-001.

Applicants: Northern States Power Company, a Minnesota corporation.

Description: Tariff Amendment: 2025-09-09 CapX—Fargo 4—LRTP—OMA—307—Deferral to be effective 12/31/9998.

Filed Date: 9/9/25.

Accession Number: 20250909-5052.

Comment Date: 5 p.m. ET 9/30/25.

Docket Numbers: ER25-2842-001.

Applicants: Northern States Power Company, a Minnesota corporation.

Description: Tariff Amendment: 2025-09-09 CapX—Fargo 4—LRTP—TCEA—281—Deferral to be effective 12/31/9998.

Filed Date: 9/9/25.

Accession Number: 20250909-5054.

Comment Date: 5 p.m. ET 9/30/25.

Docket Numbers: ER25-3389-000.

Applicants: Southwest Power Pool, Inc.

Description: § 205(d) Rate Filing: 4462 Big Elk Solar GIA to be effective 8/22/2025.

Filed Date: 9/9/25.

Accession Number: 20250909-5000.

Comment Date: 5 p.m. ET 9/30/25.

Docket Numbers: ER25-3390-000.

Applicants: Rochester Gas and Electric Corporation, New York Independent System Operator, Inc.

Description: § 205(d) Rate Filing: New York Independent System Operator, Inc. submits tariff filing per 35.13(a)(2)(iii: NYISO-RG&E Joint 205: Standard IA White Creek Solar SA2904 (CEII) to be effective 8/25/2025.

Filed Date: 9/9/25.

Accession Number: 20250909-5022.

Comment Date: 5 p.m. ET 9/30/25.

Docket Numbers: ER25-3391-000.

Applicants: Midcontinent Independent System Operator, Inc.

Description: § 205(d) Rate Filing: 2025-09-09_SA 4549 IMPA-Ratts 2 Solar FSA (J1027) to be effective 11/9/2025.

Filed Date: 9/9/25.

Accession Number: 20250909-5072.

Comment Date: 5 p.m. ET 9/30/25.

Docket Numbers: ER25-3392-000.

Applicants: Midcontinent Independent System Operator, Inc.

Description: § 205(d) Rate Filing: 2025-09-09_SA 4550 IMPA-Ratts 1 Solar FSA (J1028) to be effective 11/9/2025.

Filed Date: 9/9/25.

Accession Number: 20250909-5079.

Comment Date: 5 p.m. ET 9/30/25.

Docket Numbers: ER25-3393-000.

Applicants: Midcontinent Independent System Operator, Inc.

Description: § 205(d) Rate Filing: 2025-09-09_SA 4552 IMPA-Duke Energy Indiana FSA (J1189) to be effective 8/28/2025.

Filed Date: 9/9/25.

Accession Number: 20250909-5090.

Comment Date: 5 p.m. ET 9/30/25.

Docket Numbers: ER25-3394-000.

Applicants: Alabama Power Company, Georgia Power Company, Mississippi Power Company.

Description: Tariff Amendment: Alabama Power Company submits tariff filing per 35.15: Newton Solar LGIA Termination Filing to be effective 9/9/2025.

Filed Date: 9/9/25.

Accession Number: 20250909-5092.

Comment Date: 5 p.m. ET 9/30/25.

Docket Numbers: ER25-3395-000.

Applicants: PacifiCorp.

Description: § 205(d) Rate Filing: PacifiCorp RMP Provisional Large Gen Interconnection Agrmt_Rev 1 (S.A. No. 1034) to be effective 11/9/2025.

Filed Date: 9/9/25.

Accession Number: 20250909-5093.

Comment Date: 5 p.m. ET 9/30/25.

Docket Numbers: ER25-3397-000.

Applicants: Southern California Edison Company.

Description: Notice of Termination of Service Agreement No. 1361 of Southern California Edison Company.

Filed Date: 9/4/25.

Accession Number: 20250904-5171.

Comment Date: 5 p.m. ET 9/25/25.

Docket Numbers: ER25-3398-000.

Applicants: Minco Wind Interconnection Services, LLC.

Description: § 205(d) Rate Filing: Amended & Restated Shared Facilities Agreement to be effective 9/10/2025.

Filed Date: 9/9/25.

Accession Number: 20250909-5128.

Comment Date: 5 p.m. ET 9/30/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: September 9, 2025.
Carlos D. Clay,
Deputy Secretary.

[FR Doc. 2025-17642 Filed 9-11-25; 8:45 am]

BILLING CODE 6717-01-P